DEPARTMENT OF EDUCATION

Submission for OMB Review; Comment Request

AGENCY: Department of Education.

SUMMARY: The Director, Information Collection Clearance Division, Regulatory Information Management Services, Office of Management invites comments on the submission for OMB review as required by the Paperwork Reduction Act of 1995.

DATES: Interested persons are invited to submit comments on or before November 25, 2009.

ADDRESSES: Written comments should be addressed to the Office of Information and Regulatory Affairs, Attention: Education Desk Officer, Office of Management and Budget, 725 17th Street, NW., Room 10222, New Executive Office Building, Washington, DC 20503, be faxed to (202) 395-5806 or send e-mail to oira_submission@omb.eop.gov.

SUPPLEMENTARY INFORMATION: Section 3506 of the Paperwork Reduction Act of 1995 (44 U.S.C. Chapter 35) requires that the Office of Management and Budget (OMB) provide interested Federal agencies and the public an early opportunity to comment on information collection requests. OMB may amend or waive the requirement for public consultation to the extent that public participation in the approval process would defeat the purpose of the information collection, violate State or Federal law, or substantially interfere with any agency's ability to perform its statutory obligations. The IC Clearance Official, Regulatory Information Management Services, Office of Management, publishes that notice containing proposed information collection requests prior to submission of these requests to OMB. Each proposed information collection, grouped by office, contains the following: (1) Type of review requested, e.g. new, revision, extension, existing or reinstatement; (2) Title; (3) Summary of the collection; (4) Description of the need for, and proposed use of, the information; (5) Respondents and frequency of collection; and (6) Reporting and/or Recordkeeping burden. OMB invites public comment.

Dated: October 20, 2009.
Angela C. Arrington,
Director, Information Collection Clearance Division, Regulatory Information Management Services, Office of Management.

National Institute for Literacy

Type of Review: New.

Title: Understanding Effective K-3 Reading Programs Based on Scientific Reading Research.

Frequency: One time.

Affected Public: Businesses or other for-profit; State, Local, or Tribal Gov't, SEAs or LEAs.

Reporting and Recordkeeping Hour Burden:

Responses: 87.

Burden Hours: 1,037.

Abstract: The National Institute for Literacy (NIFL) is authorized under the No Child Left Behind Act, Public Law 107-110, Part B, Subpart 1, Section 1207 to “* * * identify and disseminate information about schools, local educational agencies, and State educational agencies that have effectively developed and implemented classroom reading programs that meet the requirements of this subpart (Reading First) * * *” To carry out this authorized activity, the NIFL is first conducting a set of case studies, identifying Schools with Effective Reading Programs, to be implemented by a research team from Education Development Center, Inc. (EDC). The NIFL then will publish findings from the case studies as a report and print and distribute it widely among educators and administrators working with children in kindergarten through third grades as well as reading researchers. The NIFL needs to collect the information proposed in this package to be able to describe in reasonable detail the school- and classroom-based reading strategies employed by schools with high-performing students. The NIFL understands its statutory charge to mean providing information that explains what the schools did and how they did it rather than general information from sources such as school Web sites. While the findings from case studies should not be construed as guidance to schools seeking to improve their K-3 students' reading outcomes, the information from this study may bring to light detail that contributes to deeper understanding of effective reading instruction and informs future research on K-3 reading instruction.

Requests for copies of the information collection submission for OMB review may be accessed from http://edicsweb.ed.gov, by selecting the “Browse Pending Collections” link and by clicking on link number 4001. When you access the information collection, click on “Download Attachments ” to view. Written requests for information should be addressed to U.S. Department of Education, 400 Maryland Avenue, SW., LBJ, Washington, DC 20202-4537. Requests may also be electronically mailed to the Internet address ICDocketMgr@ed.gov or faxed to 202-401-0920. Please specify the complete title of the information collection when making your request.

Comments regarding burden and/or the collection activity requirements should be electronically mailed to ICDocketMgr@ed.gov. Individuals who use a telecommunications device for the deaf (TDD) may call the Federal Information Relay Service (FIRS) at 1-800-877-8339.

[FR Doc. E9-25609 Filed 10-23-09; 8:45 am]

BILLING CODE 4000-01-P